DEPARTMENT OF THE INTERIOR

Minerals Management Service

Geological and Geophysical Exploration (G&G) on the Mid- and South Atlantic Outer Continental Shelf (OCS)

AGENCY: Minerals Management Service, Interior.

ACTION: Reopening of Comment Period and Notice of Public Scoping Meetings for the Programmatic Environmental Impact Statement (PEIS) for Future Industry G&G Activity on the Mid- and South Atlantic OCS.

SUMMARY: Pursuant to the regulations implementing the procedural provisions of the National Environmental Policy Act of 1969, as amended (42 U.S.C. 4321 et seq. (1988)) (NEPA), MMS will reopen the comment period for a period of 45 days from the date of this Federal Register notice. Public scoping meetings will be held during this 45-day period to solicit information that will be used to prepare a PEIS to evaluate potential environmental effects of multiple G&G activities on the Atlantic OCS. These activities are associated with Atlantic OCS siting for renewable energy projects, oil and gas exploration, and marine minerals extraction; these activities could take place over a period of several years. The purpose of the scoping meetings will be to receive comments on the scope of the PEIS, identify significant resources and issues to be analyzed in the PEIS, and identify possible alternatives to the proposed action.

DATES: Comments should be submitted no later than May 17, 2010. The MMS estimates completion of the PEIS by mid-2012.

ADDRESSES: Comments may be submitted in one of the following two ways:

• In written form enclosed in an envelope labeled “Comments on the PEIS Scope” and mailed (or hand carried) to the Regional Supervisor, Leasing and Environment (MS 5410), Minerals Management Service, Gulf of Mexico OCS Region, 1201 Elmwood Park Boulevard, New Orleans, Louisiana 70123-2394; or

• Electronically to the MMS e-mail address: GGEIS@mms.gov.

For further information regarding the Atlantic OCS G&G PEIS, please visit our Web site at http://www.gomr.mms.gov/homepg/offshore/atlocs/gandg.html.

FOR FURTHER INFORMATION CONTACT: For information on the public scoping meetings, the submission of comments, or MMS's policies associated with this notice, please contact Mr. Gary Goeke, Section Chief, Environmental Assessment Section, Leasing and Environment (MS 5410), Minerals Management Service, Gulf of Mexico OCS Region, 1201 Elmwood Park Boulevard, New Orleans, Louisiana 70123-2394, telephone (504) 736-3233.

SUPPLEMENTARY INFORMATION: An initial comment period was commenced by the Notice of Intent (NOI) to prepare the PEIS, which was published in the Federal Register on January 21, 2009, (74 FR 3636). The comment period on the earlier NOI closed on March 23, 2009. MMS did not move forward on the PEIS at that time. Comments made during this 2009 scoping period will still be considered and need not be resubmitted.

The Atlantic OCS area that will be analyzed within the Mid- and South Atlantic G&G PEIS is illustrated in Figure 1 as the Mid-Atlantic Planning Area and the South Atlantic Planning Area.

BILLING CODE 4310-MR-P

BILLING CODE 4310-MR-C

Statements, both oral and written, will be received at the venues listed below. All persons wishing to speak will have an opportunity to do so. Time limits may be set on speakers to allow time for all speakers to participate.

The following public scoping meetings are planned for the PEIS:

• April 20, 2010—Marriott Houston Intercontinental Hotel, George Bush Intercontinental Airport, 18700 John F. Kennedy Boulevard, Houston, Texas 77032; one meeting beginning at 1 p.m. CST;

• April 21, 2010—Jacksonville Marriott, 4760 Salisbury Road, Jacksonville, Florida 32256; two meetings, the first beginning at 1 p.m. EST and the second beginning at 7 p.m. EST;

• April 23, 2010—Coastal Georgia Center, 305 Fahm Street, Savannah, Georgia 31401; two meetings, the first beginning at 1 p.m. EST and the second beginning at 7 p.m. EST;

• April 27, 2010—Sheraton Newark Airport Hotel, 128 Frontage Road, Newark, New Jersey 07114; two meetings, the first beginning at 1 p.m. EST and the second beginning at 7 p.m. EST;

• April 27, 2010—Embassy Suites North Charleston, 5055 International Boulevard, North Charleston, South Carolina 29418; two meetings, the first beginning at 1 p.m. EST and the second beginning at 7 p.m. EST;

• April 29, 2010—Hilton Wilmington Riverside, 301 North Water Street, Wilmington, North Carolina 28401; two meetings, the first beginning at 1 p.m. EST and the second beginning at 7 p.m. EST; and

• April 29, 2010—Hilton Norfolk Airport, 1500 N. Military Highway, Norfolk, Virginia 23502; two meetings, the first beginning at 1 p.m. EST and the second beginning at 7 p.m. EST.

Through the scoping process, Federal, State, and local government agencies and other interested parties have the opportunity to help MMS determine the significant resources, issues, and alternatives for analysis in the PEIS. Comments received in response to this notice and at the public scoping meetings will assist MMS in developing the content and scope of the PEIS. This early planning and consultation step is important to ensure that all interests and concerns are communicated to MMS as it develops this PEIS and ultimately for future decisions regarding G&G operations under MMS regulatory authority. It is envisioned that this PEIS would cover G&G activity for renewable energy projects, minerals extraction, and oil and gas activities for any Atlantic OCS applications within the area analyzed within the PEIS that are received within the foreseeable future. Possible alternatives for analysis may represent a range of levels of activities from unrestricted to no seismic and could address the following, although this list is not exhaustive:

Levels of Activity

Number, scale/size, location, and duration of seismic activities;

Number, scale/size, location, and duration of associated support activities (vessel, aircraft, shore); and

The degree to which those activities can overlap in space and time.

Mitigation

Exclusion zones based on received levels of sounds;

Exclusion zones based on presence of specific biological factors in combination with received levels of sound; and

Limitations on certain combinations of activities in specific temporal/spatial circumstances. The MMS invites other Federal agencies and State, Tribal, and local governments to consider becoming cooperating agencies in the preparation of the PEIS. Following the guidelines from the Council on Environmental Quality (CEQ), qualified agencies and governments are those with “jurisdiction by law or special expertise.” Potential cooperating agencies should consider their authority and capacity to assume the responsibilities of a cooperating agency and note that an agency's role in the environmental analysis neither enlarges nor diminishes the final decisionmaking authority of any other agency involved in the NEPA process. Upon request, MMS will provide potential cooperating agencies with a written summary of ground rules for cooperating agencies, including time schedules and critical action dates, milestones, responsibilities, scope and detail of cooperating agencies' contributions, and the availability of pre-decisional information. The MMS anticipates this summary will form the basis for a Memorandum of Agreement between MMS and each cooperating agency. Agencies should also consider the “Factors for Determining Cooperating Agency Status” in Attachment 1 to CEQ's January 30, 2002, Memorandum for the Heads of Federal Agencies: Cooperating Agencies in Implementing the Procedural Requirements of the National Environmental Policy Act. A copy of this document is available at http://ceq.hss.doe.gov/nepa/regs/cooperating/cooperatingagenciesmemorandum.html and http://ceq.hss.doe.gov/nepa/regs/cooperating/cooperatingagencymemofactors.html.

The MMS, as the lead agency, will not provide financial assistance to cooperating agencies. Even if an organization is not an official cooperating agency, opportunities exist to provide information and comments to MMS during the normal public input phases of the NEPA/PEIS process. If further information about cooperating agencies is needed, please contact Mr. Gary Goeke at (504) 736-3233.

Authority: The MMS has the authority under the Outer Continental Shelf Lands Act (OCSLA, as amended; 43 U.S.C. 1331-1356, (2007)) and its implementing regulations at 30 CFR 251 to issue prelease permits for the collection of G&G data. These regulations discuss the types of G&G activities that require a permit, the instructions for filing a permit, and the obligations and rights under a permit. This notice is published pursuant to the regulations (40 CFR 1501.7) implementing the provisions of NEPA.

Background: Scoping is the initial step in the NEPA process. The MMS plans to fully comply with all pertinent laws, rules, and regulations and will allow the public an adequate opportunity to participate in the NEPA process, including scoping meetings and public comment periods.

The PEIS will evaluate environmental impacts of G&G activities in the area analyzed by the PEIS on the Mid- and South Atlantic OCS subject to MMS regulatory authority that may be proposed over several years. MMS has decided at this time not to move forward with scoping and a PEIS for the Northern Atlantic and Straits of Florida planning areas. In addition, the PEIS would serve as a reference document to implement the “tiering” objective detailed in NEPA's implementing regulations (40 CFR 1502.20), allowing that future site-specific environmental assessments (SEA's) may reference appropriate sections of this PEIS to reduce reiteration of issues and effects, allowing analyses to focus on specific issues and effects related to a particular G&G activity. The proposed G&G activities include, but are not limited to, seismic surveys, sidescan-sonar surveys, electromagnetic surveys, geological and geochemical sampling, and remote sensing. These activities could support siting needs for renewable energy projects, oil and gas operations, and research for sand deposits. The MMS, to date, has received approximately 11 proposed applications for various types of G&G activity on the Atlantic OCS. Information on the details of these proposals and their scope can be found at http://www.gomr.mms.gov/homepg/offshore/atlocs/gandg.html. The PEIS will be completed prior to authorizing any new, large-scale G&G activities on the Atlantic OCS. In the interim, MMS may still consider small-scale, limited permit requests, but only if a NEPA environmental assessment is conducted and finds there is no potential for significant impacts from that specific proposed activity or that the cumulative nature of a collection of smaller, limited surveys would not result in significant impacts under NEPA.

More information on G&G activities can be found on pages 13-15 of MMS's Leasing Oil and Natural Gas Resources: Outer Continental Shelf (see http://www.mms.gov/ld/PDFs/GreenBook-LeasingDocument.pdf) and MMS's Geological and Geophysical Exploration for Mineral Resources on the Gulf of Mexico Outer Continental Shelf: Final Programmatic Environmental Assessment (see http://www.gomr.mms.gov/PDFs/2004/2004-054.pdf).

Comments: In lieu of participation in the scoping meetings listed above, all interested parties, including Federal, State, and local government agencies and the general public, may submit written comments on the scope of the PEIS, significant issues that should be addressed, alternatives that should be considered, and the types of G&G activities and geographical areas of interest on the Mid- and South Atlantic OCS. Comments made during the initial 2009 scoping period will still be considered and need not be resubmitted.

Dated: March 30, 2010.
S. Elizabeth Birnbaum,
Director, Minerals Management Service.

[FR Doc. 2010-7581 Filed 4-1-10; 8:45 am]

BILLING CODE 4310-MR-P